DEPARTMENT OF HOMELAND SECURITY

U.S. Customs and Border Protection

DEPARTMENT OF THE TREASURY

19 CFR Parts 4, 7, 10, 102, 134 and 177

[USCBP-2007-0100]

RIN 1505-AB49

Uniform Rules of Origin for Imported Merchandise

AGENCIES: Customs and Border Protection, Department of Homeland Security; Department of the Treasury.

ACTION: Notice of proposed rulemaking; re-opening of comment period.

SUMMARY: This document re-opens the period within which comments may be submitted in response to the proposed rule to amend the Customs and Border Protection (“CBP”) regulations to establish uniform rules governing CBP determinations of the country of origin of imported merchandise. The proposed rule was published in the Federal Register on July 25, 2008 (73 FR 43385) with comments due on or before September 23, 2008. The comment period was extended by a notice published in the Federal Register on September 8, 2008 (73 FR 51962), to October 23, 2008. This notice re-opens the comment period to afford interested parties an opportunity to consider the impact, if any, of the proposed rule on the country of origin of their goods in view of the publication of a final rule document in today's Federal Register which sets forth technical corrections to §§ 102.20 and 102.21 of the CBP regulations (19 CFR 102.20 and 102.21).

DATES: Comments on the proposed rule must be received on or before December 1, 2008.

ADDRESSES: You may submit comments, identified by docket number, by one of the following methods:

• Federal eRulemaking Por tal: http://www.regulations.gov. Follow the instructions for submitting comments via docket number USCBP-2007-0100.

• Mail: Trade and Commercial Regulations Branch, Regulations and Rulings, Office of International Trade, U.S. Customs and Border Protection, 799 9th Street, NW., 5th Floor, Washington, DC 20001-4501.

Instructions: All submissions received must include the agency name and docket number for this rulemaking. All comments received will be posted without change to http://www.regulations.gov, including any personal information provided. For detailed instructions on submitting comments and additional information on the rulemaking process, see the “Public Participation” heading of the SUPPLEMENTARY INFORMATION section of this document.

Docket: For access to the docket to read background documents or comments received, go to http://www.regulations.gov. Submitted comments may be inspected during regular business days between the hours of 9 a.m. and 4:30 p.m. at the Trade and Commercial Regulations Branch, Regulations and Rulings, Office of International Trade, U.S. Customs and Border Protection, 799 9th Street, NW., 5th Floor, Washington, DC 20001-4501. Arrangements to inspect submitted comments should be made in advance by calling Mr. Joseph Clark at (202) 572-8768.

FOR FURTHER INFORMATION CONTACT: Monika Brenner, Valuation and Special Programs, Office of International Trade, 202-572-8835; Heather K. Pinnock, Tariff Classification and Marking, Office of International Trade, 202-572-8828.

SUPPLEMENTARY INFORMATION:

Public Participation

Interested persons are invited to participate in this rulemaking by submitting written data, views, or arguments on all aspects of the proposed rule. CBP also invites comments that relate to the economic, environmental, or federalism effects that might result from this proposed rule. Comments that will provide the most assistance to CBP will reference a specific portion of the proposed rule, explain the reason for any recommended change, and include data, information, or authority that support such recommended change. See ADDRESSES above for information on how to submit comments.

Background

CBP published a notice of proposed rulemaking in the Federal Register (73 FR 43385) on July 25, 2008, proposing to amend the CBP regulations to establish uniform rules of origin for imported merchandise. The proposed rule would extend application of the country of origin rules codified in 19 CFR part 102. Those rules have proven to be more objective and transparent and provide greater predictability in determining the country of origin of imported merchandise than the system of case-by-case adjudication they would replace. The proposed change also will aid an importer's exercise of reasonable care. In addition, the document proposes to amend the country of origin rules applicable to pipe fitting and flanges, printed greeting cards, glass optical fiber, and rice preparations. Finally, the proposed rule would amend the textile regulations set forth in § 102.21 to make corrections so that the regulations reflect the language of section 334(b)(5) of the Uruguay Round Agreements Act.

The notice of proposed rulemaking invited the public to comment on the proposal. Comments on the proposed rule were requested on or before September 23, 2008. In response to the proposed rule published in the Federal Register, CBP received correspondence from several parties requesting an extension of the comment period. In a notice published in the Federal Register on September 8, 2008 (73 FR 51962), CBP provided an additional 30 days for interested parties to submit comments on the proposed rule until October 23, 2008.

Re-Opening of Comment Period

As a result of modifications to the Harmonized Tariff Schedule of the United States (HTSUS) in 2007, certain tariff provisions have been added or removed, and certain goods have been transferred, for tariff classification purposes, to different or newly-created provisions. CBP is publishing a document in today's Federal Register which sets forth technical corrections to §§ 102.20 and 102.21 of the CBP regulations (19 CFR 102.20 and 102.21) in order to align the regulations with the current version of the HTSUS. The technical corrections to the tariff shift rules set forth in that document will enable parties to properly evaluate the impact, if any, of the proposed rule on the country of origin of their goods. Accordingly, in order to afford parties the opportunity to enhance their review of the proposed rule and provide meaningful comment in light of the technical corrections to §§ 102.20 and 102.21, the decision has been made to re-open the comment period on the proposed rule. Comments are now due on or before December 1, 2008.

Dated: October 23, 2008.
Harold M. Singer,
Director, Regulations and Disclosure Law Division, Regulations and Rulings, Office of International Trade.
Timothy E. Skud,
Deputy Assistant Secretary (Tax, Trade and Tariff Policy), Office of Tax Policy, United States Treasury Department.

[FR Doc. E8-25731 Filed 10-29-08; 8:45 am]

BILLING CODE 9111-14-P